DEPARTMENT OF THE TREASURY

Submission for OMB Review; Comment Request

August 12, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 24, 2003 to be assured of consideration.

Alcohol and Tobacco Tax and Trade Bureau (TTB)

OMB Number: 1513-0011.

Form Number: TTB F 5150.19.

Type of Review: Extension.

Title: Formula and/or Process for Articles Made with Specially Denatured Spirits.

Description: TTB F 5150.19 is completed by persons who use specially denatured spirits in the manufacture of certain articles. TTB uses the information provided on the form to insure the manufacturing formulas and processes conform to the requirement of 26 U.S.C. 5273.

Respondents: Business of other for-profit.

Estimated Number of Respondents: 2,683.

Estimated Burden Hours Per Respondent: 54 minutes.

Frequency of Response: On occasion.

Estimated Total Reporting Burden: 2,415 hours.

OMB Number: 1513-0012.

Form Number: TTB F 5150.186.

Type of Review: Extension.

Title: User's Report of Denatured Spirits.

Description: The information on TTB F 5150.18 is used to pinpoint unusual activities in the use of specially denatured spirits. The form shows a summary of activities at permit premises. TTB examines and verifies certain entries on these reports to identify unusual activities, errors and omissions.

Respondents: Business or other for-profit.

Estimated Number of Respondents: 2,765.

Estimated Burden Hours Per Respondent: 18 minutes.

Frequency of Response: On occasion.

Estimated Total Reporting Burden: 830 hours.

OMB Number: 1513-0029.

Form Number: TTB F 5120.20.

Type of Review: Extension.

Title: Certification of Tax Determination—Wine.

Description: TTB F 5120.20 supports the exporter's claim for drawback, as the producing winery verifies that the wine being exported was in fact taxpaid.

Respondents: Business or other for-profit.

Estimated Number of Respondents: 1,000.

Estimated Burden Hours Per Respondent: 30 minutes.

Frequency of Response: On occasion.

Estimated Total Reporting Burden: 500 hours.

OMB Number: 1513-0038.

Form Number: TTB F 5100.16.

Type of Review: Extension.

Title: Application for Transfer of Spirits and/or Denatured Spirits in Bond.

Description: TTB F 5100.16 is completed by distilled spirits plant proprietors who wish to receive spirits in bond from other distilled spirits plants. TTB uses the information to determine if the applicant has sufficient bond coverage for the additional tax liability assumed when spirits are transferred in bond.

Respondents: Business or other for-profit.

Estimated Number of Respondents: 250.

Estimated Burden Hours Per Respondent: 12 minutes.

Frequency of Response: On occasion.

Estimated Total Reporting Burden: 300 hours.

OMB Number: 1513-0039.

Form Number: TTB F 5110.11.

Recordkeeping Requirement ID Number: TTB REC 5100/02.

Type of Review: Extension.

Title: Distilled Spirits Plants Warehousing Records, TTB REC 5110/02 and Reports, TTB F 5110.11.

Description: The information collected is used to account for proprietor's tax liability, adequacy of bond coverage and protection of the revenue. It also provides data to analyze trends, audit plant operations, monitor industry activities and compliance to provide for efficient allocation of field personnel plus provide for economic analysis.

Respondents: Business of other for-profit.

Estimated Number of Respondents/Recordkeepers: 230.

Estimated Burden Hours Per Respondent/Recordkeeper: 2 hours.

Frequency of Response: Monthly.

Estimated Total Reporting/Recordkeeping Burden: 5,520 hours.

OMB Number: 1513-0045.

Recordkeeping Requirement ID Number: TTB REC 5110/06.

Type of Review: Extension.

Title: Distilled Spirits Plants—Excise Taxes.

Description: Collection of information is necessary to account for and verify taxable removals of distilled spirits. The data is used to audit tax payments.

Respondents: Business or other for-profit.

Estimated Number of Recordkeepers: 133.

Estimated Burden Hours Per Recordkeeper: 26 hours.

Frequency of Response: Weekly.

Estimated Total Recordkeeping Burden: 3,458 hours.

OMB Number: 1513-0046.

Form Number: TTB F 5110.38.

Type of Review: Extension.

Title: Formula for Distilled Spirits under the Federal Alcohol Administration Act (Supplemental).

Description: TTB F 5110.38 is used to determine the classification of distilled spirits for labeling and for consumer protection. The form describes the person filing, type of product to be made, and restrictions to the labeling and manufacture. The form is used by TTB to ensure that a product is made and labeled properly and to audit distilled spirits operations.

Respondents: Business or other for-profit.

Estimated Number of Respondents: 200.

Estimated Burden Hours Per Respondent: 2 hours.

Frequency of Response: On occasion.

Estimated Total Reporting Burden: 4,000 hours.

OMB Number: 1513-0049.

Form Number: TTB F 5110.43.

Recordkeeping Requirement ID Number: TTB REC 5110/4.

Type of Review: Extension.

Title: Distilled Spirits Plants (DSP Denaturation Records and Reports).

Description: The information collected is necessary to account for and verify the denaturation of distilled spirits. It is used to audit plant operations, monitor the industry for the efficient allocation of personnel resources, and compile statistics for government economic planning.

Respondents: Business or other for-profit.

Estimated Number of Respondents/Recordkeepers: 98.

Estimated Burden Hours Per Respondent/Recordkeeper: 1 hour.

Frequency of Response: Monthly.

Estimated Total Reporting Burden: 1,176 hours.

OMB Number: 1513-0056.

Recordkeeping Requirement ID Number: TTB REC 5110/5.

Type of Review: Extension.

Title: Distilled Spirits Plants (DSP)—Transaction and Supporting Records.

Description: Transaction records provide the source data for accounts of distilled spirits in all DSP operations. They are used by DSP proprietors to account for spirits and by TTB to verify those accounts and consequent tax liabilities.

Respondents: Business or other for-profit.

Estimated Number of Recordkeepers: 278.

Estimated Burden Hours Per Recordkeeper: 22 hours.

Frequency of Response: On occasion.

Estimated Total Recordkeeping Burden: 6,060 hours.

OMB Number: 1513-0080.

Recordkeeping Requirement ID Number: TTB REC 5110/12.

Type of Review: Extension.

Title: Equipment and Structures.

Description: Marks, signs and calibrations are necessary on equipment and structures at a distilled spirits plant for the identification of major equipment and the accurate determination of contents.

Respondents: Business or other for-profit.

Estimated Number of Recordkeepers: 281.

Estimated Burden Hours Per Recordkeeper: 1 hour.

Frequency of Response: On occasion.

Estimated Total Recordkeeping Burden: 1 hour.

OMB Number: 1513-0081.

Recordkeeping Requirement ID Number: TTB REC 5110/9.

Type of Review: Extension.

Title: Registration and Records of Vinegar Vaporizing Plants.

Description: Data is necessary to identify persons producing and using distilled spirits in the manufacture of vinegar and to account for spirits so produced and used.

Respondents: Business or other for-profit.

Estimated Number of Recordkeepers: 1.

Estimated Burden Hours Per Recordkeeper: 1 hour.

Estimated Total Recordkeeping Burden: 1 hour.

OMB Number: 1513-0082.

Recordkeeping Requirement ID Number: TTB REC 5170/7.

Type of Review: Extension.

Title: Alternate Methods of Procedures and Emergency Variations from Requirements for Exports of Liquors.

Description: TTB allows exporters to request approval of alternate methods from those specified in regulations under 27 CFR part 252. TTB uses the information to evaluate need, jeopardy to the revenue, and compliance with law. Also used to identify areas where regulations need change.

Respondents: Business or other for-profit.

Estimated Number of Recordkeepers: 500.

Estimated Burden Hours Per Recordkeeper: 24 minutes.

Estimated Total Recordkeeping Burden: 200 hours.

OMB Number: 1513-0084.

Form Number: None.

Type of Review: Extension.

Title: Labeling of Sulfites in Alcoholic Beverages.

Description: In accordance with our consumer protection responsibilities, as mandated by law, TTB requires label disclosure statements on all alcoholic beverage products released from U.S. bottling premises or customs custody that contain 10 parts per million or more of sulfites.

Respondents: Business or other for-profit.

Estimated Number of Respondents: 4,787.

Estimated Burden Hours Per Respondent: 40 minutes.

Frequency of Response: On occasion.

Estimated Total Reporting Burden: 3,159 hours.

OMB Number: 1513-0106.

Form Number: None.

Type of Review: Extension.

Title: Recordkeeping Requirements for Importers of Tobacco Products.

Description: Importers of tobacco products are required to maintain records of physical receipts and disposition of tobacco products to be able to prepare TTB Form 5220.6 a monthly report. Importers of tobacco products will consist of both large and small businesses that operate for a profit.

Respondents: Business or other for-profit.

Estimated Number of Recordkeepers: 1,500.

Estimated Burden Hours Per Recordkeeper: 1 hour.

Frequency of Response: Monthly.

Estimated Total Recordkeeping Burden: 1 hour.

Clearance Officer: Jacqueline White (202) 927-8930, Alcohol and Tobacco Tax and Trade Bureau, Room 3200, 650 Massachusetts Avenue, NW., Washington, DC 20226.

OMB Reviewer: Joseph F. Lackey, Jr. (202) 395-7316, Office of Management and Budget, Room 10235, New Executive Office Building, Washington, DC 20503.

Lois K. Holland,
Treasury PRA Clearance Officer.

[FR Doc. 03-21534 Filed 8-22-03; 8:45 am]

BILLING CODE 4810-31-P